DEPARTMENT OF THE INTERIOR

Fish and Wildlife Service

50 CFR Part 17

[Docket No. FWS-R8-ES-2014-0041; 4500030113]

RIN 1018-BA05

Endangered and Threatened Wildlife and Plants; 6-Month Extension of Final Determination on the Proposed Threatened Status for the West Coast Distinct Population Segment of Fisher

AGENCY: Fish and Wildlife Service, Interior.

ACTION: Proposed rule; reopening of the comment period.

SUMMARY: We, the U.S. Fish and Wildlife Service (Service), announce a 6-month extension of the final determination of whether to list the West Coast distinct population segment (DPS) of fisher (Pekania pennanti) as a threatened species. We also reopen the comment period on the proposed rule to list the species for an additional 30 days. We are taking this action based on substantial disagreement regarding available information related to toxicants and rodenticides (including law enforcement information and trend data) and related to surveyed versus unsurveyed areas (including data on negative survey results) to help assess distribution and population trends. Comments previously submitted need not be resubmitted as they are already incorporated into the public record and will be fully considered in the final rule. We will submit a final listing determination to the Federal Register on or before April 7, 2016.

DATES: We will accept comments received or postmarked on or before May 14, 2015. If you comment using the Federal eRulemaking Portal (see ADDRESSES), you must submit your comments by 11:59 p.m. Eastern Time on the closing date.

ADDRESSES: You may submit comments by one of the following methods:

(1) Federal eRulemaking Portal: http://www.regulations.gov. In the Search box, enter the docket number for this proposed rule, which is FWS-R8-ES-2014-0041. Then click on the Search button. You may submit a comment by clicking on “Comment Now!” Please ensure that you have found the correct rulemaking before submitting your comment.

(2) U.S. mail or hand delivery: Public Comments Processing, Attn: Docket No. FWS-R8-ES-2014-0041; U.S. Fish and Wildlife Service, MS: BPHC; 5275 Leesburg Pike; Falls Church, VA 22041-3803.

FOR FURTHER INFORMATION CONTACT: Erin Williams, Field Supervisor, U.S. Fish and Wildlife Service, Yreka Fish and Wildlife Office, 1829 South Oregon Street, Yreka, CA 96097; telephone 530-842-5763; facsimile 530-842-4517. Persons who use a telecommunications device for the deaf (TDD) may call the Federal Information Relay Service (FIRS) at 800-877-8339.

SUPPLEMENTARY INFORMATION:

Background

On October 7, 2014, we published a proposed rule (79 FR 60419) to list the West Coast DPS of fisher as a threatened species under the Endangered Species Act of 1973, as amended (Act; 16 U.S.C. 1531 et seq.). That proposal had a 90-day comment period, ending January 5, 2015. On December 23, 2014, we extended the proposal's comment period for an additional 30 days, ending February 4, 2015 (79 FR 76950). For a description of previous Federal actions concerning the West Coast DPS of fisher, please refer to the October 7, 2014, proposed listing rule (79 FR 60419). We also solicited and received independent scientific review of the information contained in the proposed rule from peer reviewers with expertise in the West Coast DPS of fisher or similar species biology, in accordance with our July 1, 1994, peer review policy (59 FR 34270).

Section 4(b)(6) of the Act and its implementing regulations at 50 CFR 424.17(a) require that we take one of three actions within 1 year of a proposed listing and concurrent proposed designation of critical habitat: (1) Finalize the proposed rule; (2) withdraw the proposed rule; or (3) extend the final determination by not more than 6 months, if there is substantial disagreement regarding the sufficiency or accuracy of the available data relevant to the determination.

Since the publication of the October 7, 2014, proposed listing rule, there has been substantial disagreement regarding available information related to toxicants and rodenticides (including law enforcement information and trend data) and related to surveyed versus unsurveyed areas (including data on negative survey results) to help assess distribution and population trends.

We find that there is substantial scientific uncertainty and disagreement about certain data relevant to our listing determination. Therefore, in consideration of these disagreements, we have determined that a 6-month extension of the final determination for this rulemaking is necessary, and we are hereby extending the final determination for 6 months in order to solicit and consider additional information that will help to clarify these issues and to fully analyze data that are relevant to our final listing determination. With this 6-month extension, we will make a final determination on the proposed rule no later than April 7, 2016.

Information Requested

We will accept written comments and information during this reopened comment period on our proposed listing for the West Coast DPS of fisher that was published in the Federal Register on October 7, 2014 (79 FR 60419). We will consider information and recommendations from all interested parties. We intend that any final action resulting from the proposal be as accurate as possible and based on the best available scientific and commercial data.

In consideration of the scientific disagreements about certain data, we are particularly interested in new information and comments regarding:

(1) Information related to toxicants and rodenticides (including law enforcement information and trend data);

(2) Information regarding areas that have been surveyed compared to areas that have not been surveyed. We are also interested in negative survey results to help assess distribution and population trends.

If you previously submitted comments or information on the October 7, 2014, proposed rule, please do not resubmit them. We have incorporated previously submitted comments into the public record, and we will fully consider them in the preparation of our final determination. Our final determination concerning the proposed listing will take into consideration all written comments and any additional information we receive.

You may submit your comments and materials concerning the proposed rule by one of the methods listed in the ADDRESSES section above. We request that you send comments only by the methods described in the ADDRESSES section.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Yreka Fish and Wildlife Office (see FOR FURTHER INFORMATION CONTACT). You may obtain copies of the proposed rule on the Internet at http://www.regulations.gov at Docket No. FWS-R8-ES-2014-0041. Copies of the proposed rule are also available at http://www.fws.gov/cno/es/fisher/.

Authority

The authority for this action is the Endangered Species Act of 1973, as amended (16 U.S.C. 1531 et seq.).

Dated: March 26, 2015.
James W. Kurth,
Acting Director, U.S. Fish and Wildlife Service.

[FR Doc. 2015-08275 Filed 4-13-15; 8:45 am]

BILLING CODE 4310-55-P